POSTAL REGULATORY COMMISSION

[Docket Nos. CP2010-59; Order No. 467]

New Postal Product

AGENCY: Postal Regulatory Commission.

ACTION: Notice.

SUMMARY: The Commission is noticing a recently-filed Postal Service Request to add a Global Expedited Package Services Contracts 2 Negotiated Service Agreement to the Competitive Product List. The notice addresses procedural steps.

DATES: Comments are due: June 7, 2010.

ADDRESSES: Submit comments electronically via the Commission's Filing Online system at http://www.prc.gov. Commenters who cannot file electronically should contact the person identified in the FOR FURTHER INFORMATION CONTACT section for advice on alternatives to electronic filing.

FOR FURTHER INFORMATION CONTACT: Brian Corcoran, Acting General Counsel, at 202-789-6894 or brian.corcoran@prc.gov.

SUPPLEMENTARY INFORMATION:

Table of Contents

I. Introduction

II. Notice of Filing

III. Ordering Paragraphs

I. Introduction

On May 27, 2010, the Postal Service filed a notice announcing that it has entered into an additional Global Expedited Package Services 2 (GEPS 2) contract.¹ The Postal Service believes the instant contract is functionally equivalent to previously submitted GEPS 2 contracts, and is supported by Governors' Decision No. 08-7, attached to the Notice and originally filed in Docket No. CP2008-4. Id. at 1, Attachment 3. The Notice also explains that Order No. 86, which established GEPS 1 as a product, also authorized functionally equivalent agreements to be included within the product, provided that they meet the requirements of 39 U.S.C. 3633. Id. at 1. In Order No. 290, the Commission approved the GEPS 2 product.²

¹ Notice of United States Postal Service Filing of Functionally Equivalent Global Expedited Package Services 2 Negotiated Service Agreement and Application for Non-Public Treatment of Materials Filed Under Seal, May 27, 2010 (Notice).

² Docket No. CP2009-50, Order Granting Clarification and Adding Global Expedited Package Services 2 to the Competitive Product List, August 28, 2009 (Order No. 290).

The instant contract. The Postal Service filed the instant contract pursuant to 39 CFR 3015.5. In addition, the Postal Service contends that the contract is in accordance with Order No. 86. The term of the contract is one year from the date the Postal Service notifies the customer that all necessary regulatory approvals have been received.

In support of its Notice, the Postal Service filed four attachments as follows:

•Attachment 1—a redacted copy of the contract;

•Attachment 2—a certified statement required by 39 CFR 3015.5(c)(2);

•Attachment 3—a redacted copy of Governors' Decision No. 08-7 which establishes prices and classifications for GEPS contracts, a description of applicable GEPS contracts, formulas for prices, an analysis and certification of the formulas and certification of the Governors' vote; and

•Atachment 4—an application for non-public treatment of materials to maintain redacted portions of the contract and supporting documents under seal.

The Notice advances reasons why the instant GEPS 2 contract fits within the Mail Classification Schedule language for GEPS 2. The Postal Service identifies customer-specific information, general contract terms, and other differences that distinguish the instant contract from the baseline GEPS 2 agreement, all of which are highlighted in the Notice. Id. at 3-6.

The Postal Service contends that the instant contract is functionally equivalent to previously filed GEPS contracts and is substantially similar to that in Docket No. CP2009-50 in terms of the product being offered, the market in which it is offered, and its cost characteristics. Id. at 2-3. See also id. at 6 (“[T]he relevant cost and market characteristics are similar, if not the same for these five contracts and the baseline GEPS 2 contract”).

The Postal Service also contends that its filings demonstrate that the new GEPS 2 contract complies with the requirements of 39 U.S.C. 3633. It requests that the contract be included within the GEPS 2 product. Id. at 7.

II. Notice of Filing

The Commission establishes Docket Nos. CP2010-59 for consideration of matters related to the contracts identified in the Postal Service's Notice.

Interested persons may submit comments on whether the Postal Service's contract is consistent with the policies of 39 U.S.C. 3632, 3633 or 3642. Comments are due no later than June 7, 2010. The public portions of these filings can be accessed via the Commission's Web site (http://www.prc.gov).

The Commission appoints Paul L. Harrington to serve as Public Representative in the captioned proceedings.

III. Ordering Paragraphs

It is ordered:

1. The Commission establishes Docket No. CP2010-59 for consideration of matters raised by the Postal Service's Notice.

2. Comments by interested persons in these proceedings are due no later than June 7, 2010.

3. Pursuant to 39 U.S.C. 505, Paul L. Harrington is appointed to serve as the officer of the Commission (Public Representative) to represent the interests of the general public in these proceedings.

4. The Secretary shall arrange for publication of this order in the Federal Register.

By the Commission.
Shoshana M. Grove,
Secretary.

[FR Doc. 2010-13298 Filed 6-1-10; 8:45 am]

BILLING CODE: 7710-FW-S